DEPARTMENT OF AGRICULTURE

Forest Service

Willamette Province Advisory Committee

AGENCY: Forest Service, USDA

ACTION: Notice of meeting.

SUMMARY: The Willamette Province Advisory Committee (PAC) will meet in Salem, Oregon. The purpose of the meeting is to discuss issues pertainent to the implementation of the Northwest Forest Plan and to provide advice to federal land managers in the Province. The topics to be covered at the meeting include status of BLM Resource Management Plan revisions.

DATES: The meeting will be held April 20, 2007 beginning at 9 a.m. PDST.

ADDRESSES: The meeting will be held at the Salem District Office of the Bureau of Land Management, 1717 Fabry Road, Salem, Oregon. Send written comments to Judith McHugh Willamette Province Advisory Committee, c/o Willamette National Forest, 211 E. 7th Avenue, Eugene, Oregon 97401, (541) 225-6305 or electronically to jmchugh@fs.fed.us.

FOR FURTHER INFORMATION CONTACT: Judith McHugh, Willamette National Forest, (541) 225-6305.

SUPPLEMENTARY INFORMATION: The meeting is open to the public. Committee discussion is limited to PAC members. However, persons who wish to bring matters to the attention of the Committee may file written statements with the PAC staff before or after the meeting. A public forum will be provided and individuals will have the opportunity to address the PAC. Oral comments will be limited to three minutes.

Dated: April 2, 2007.
Scott G. Fitzwilliams,
Forest Supervisor, Willamette National Forest.

[FR Doc. 07-1710 Filed 4-5-07; 8:45 am]

BILLING CODE 3410-11-M